ENVIRONMENTAL PROTECTION AGENCY

[OPPT-2002-0001; FRL-7738-5]

National Pollution Prevention and Toxics Advisory Committee (NPPTAC); Interim Ad Hoc Nanotechnology Work Group; Notice of Public Meeting

AGENCY: Environmental Protection Agency (EPA).

ACTION: Notice.

SUMMARY: Under the Federal Advisory Committee Act (FACA), 5 U.S. App. 2 (Public Law 92-463), EPA gives notice of an all day meeting of the National Pollution Prevention and Toxics Advisory Committee (NPPTAC) Interim Ad Hoc Nanotechnology Work Group. The purpose of the meeting is to discuss issues regarding a potential voluntary pilot program for nanoscale materials that are existing chemical substances and consideration of relevant issues related to nanoscale materials under the Toxics Substances Control Act (TSCA).

DATES: The meeting will be held on September 29, 2005, from 8 a.m. to 5 p.m.

Registration to attend the meeting identified by docket ID number OPPT-2002-0001, must be received on or before September 22, 2005. Registration will also be accepted at the meeting.

Request to provide oral comments at the meeting, identified as (NPPTAC) Interim Ad Hoc Nanotechnology Work Group September 2005 meeting, must be received in writing on or before September 22, 2005.

Requests to participate in the meeting, identified by docket identification (ID) number OPPT-2002-0001, must be received on or before September 22, 2005.

ADDRESSES: The meeting will be held at the Holiday Inn, Rosslyn at Key Bridge, 1900 North Myer Drive, Arlington, VA. 22209.

Requests to participate in the meeting may be submitted to the technical person listed under FOR FURTHER INFORMATION CONTACT.

FOR FURTHER INFORMATION CONTACT: For general information contact:

Colby Lintner, Regulatory Coordinator, Environmental Assistance Division (7408M), Office of Pollution Prevention and Toxics, Environmental Protection Agency, 1200 Pennsylvania Ave., NW., Washington, DC 20460-0001; telephone number: (202) 554-1404; e-mail address:TSCA-Hotline@epa.gov.

For technical information contact: John Alter (7408M), Office of Pollution Prevention and Toxics, Environmental Protection Agency, 1200 Pennsylvania Ave., NW., Washington, DC 20460-0001; telephone number: (202) 564-9891; e-mail address: npptac.oppt@epa.gov.

SUPPLEMENTARY INFORMATION:

I. General Information

A. Does this Action Apply to Me?

This action is directed to the public in general, and may be of particular interest to those persons who have an interest in or may be required to manage pollution prevention and toxic chemical programs, individual groups concerned with environmental justice, children's health, or animal welfare, as they relate to OPPT's programs under the Toxic Substances Control Act (TSCA) and the Pollution Prevention Act (PPA). Since other entities may also be interested, the Agency has not attempted to describe all the specific entities that may be interested in the activities of the NPPTAC. If you have any questions regarding the applicability of this action to a particular entity, consult the person listed under FOR FURTHER INFORMATION CONTACT.

B. How Can I Get Copies of this Document and Other Related Information?

1. Docket. EPA has established an official public docket for this action under docket ID number OPPT-2002-0001. The official public docket consists of the documents specifically referenced in this action, any public comments received, and other information related to this action. Although a part of the official docket, the public docket does not include Confidential Business Information (CBI) or other information whose disclosure is restricted by statute. The official public docket is the collection of materials that is available for public viewing at the EPA Docket Center, Rm. B102-Reading Room, EPA West, 1301 Constitution Ave., NW., Washington, DC. The EPA Docket Center is open from 8:30 a.m. to 4:30 p.m., Monday through Friday, excluding legal holidays. The EPA Docket Center Reading Room telephone number is (202) 566-1744, and the telephone number for the OPPT Docket, which is located in the EPA Docket Center, is (202) 566-0280.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search” then key in the appropriate docket ID number.

C. How and to Whom Do I Submit Comments?

You may submit comments electronically, by mail, or through hand delivery/courier. To ensure proper receipt by EPA, identify the appropriate docket ID number OPPT-2002-0001, (NPPTAC) Interim Ad Hoc Nanotechnology Work Group September 2005 meeting in the subject line on the first page of your comment.

1. By mail: OPPT Document Control Office, Environmental Protection Agency, 7407M, 1200 Pennsylvania Ave., NW., Washington, DC 20460-0001.

2. Electronically: At http://www.epa.gov/edocket/, search for OPPT-2002-0001, and follow the directions to submit comments.

3. Hand delivery/courier: OPPT Document Control Office in EPA East Bldg., Rm. M6428, 1201 Constitution Ave., NW., Washington, DC.

II. Background

The purpose and scope of work for the NPPTAC's Interim Ad Hoc Nanotechnology Work Group is stated in EPA's request to the NPPTAC, which was approved and adopted by the Committee on June 30, 2005. Accordingly, the Work Group is to provide input to the NPPTAC for Committee consideration at its October 2005 meeting for potential forwarding to EPA on the following:

• Options for possible elements of EPA's voluntary pilot program for existing chemical nanoscale materials.

• Approaches that may be appropriate for putting such a voluntary pilot program in place.

• Consideration of issues that may be relevant to the review of new chemical nanoscale materials under TSCA.

• Consideration of other relevant issues raised in stakeholder input provided at EPA's June 23, 2005, public meeting as well as written comments to the docket.

III. How Can I Request to Participate in this Meeting?

You may submit a request to participate in this meeting to the technical person listed under FOR FURTHER INFORMATION CONTACT. Please note that registration will assist in planning adequate seating; however, members of the public can register the day of the meeting. Therefore all seating will be available on a first serve basis.

1. To register to attend the meeting: Pre-registration for the September 2005 (NPPTAC) Interim Ad Hoc Nanotechnology Work Group meeting and requests for special accommodations may be made by visiting the NPPTAC web site at: http://www.epa.gov/oppt/npptac/meetings.htm. Registration will also be available at the meeting. Special accommodations may also be requested by calling (202) 564-9891 and leaving your name and telephone number.

2. To request an opportunity to provide oral comments: You must register first in order to request an opportunity to provide oral comments at the September 2005 (NPPTAC) Interim Ad Hoc Nanotechnology Work Group meeting. To register visit the NPPTAC web site at: http://www.epa.gov/oppt/npptac/meetings.htm. Request to provide oral comments at the meeting must be submitted in writing on or before September 22, 2005, with a registration form. Please note that time for oral comments may be limited to 3 to 5 minutes per speaker, depending on the number of requests received.

3. Written comments.You may submit written comments to the docket listed under Unit I.B. Written comments can be submitted at any time. If written comments are submitted on or before September 22, 2005, they will be provided to the (NPPTAC) Interim Ad Hoc Nanotechnology Work Group members prior to or at the meeting. If you provide written comments at the meeting, 35 copies will be needed.

Do not submit any information in your request that is considered CBI. Requests to participate in the meeting, identified by docket ID number OPPT-2002-001, must be received on or before September 22, 2005.

List of Subjects

Environmental protection, NPPTAC, Pollution Prevention, Toxics, Toxic Chemicals, Chemical Health and Safety, Nanotechnology.

Dated: September 13, 2005.
Charles M. Auer,
Director, Office of Pollution Prevention and Toxics.

[FR Doc. 05-18580 Filed 9-14-05; 2:07 pm]

BILLING CODE 6560-50-S